DEPARTMENT OF HEALTH AND HUMAN SERVICES

Substance Abuse and Mental Health Services Administration

Fiscal Year (FY) 2003 Funding Opportunities

AGENCY: Substance Abuse and Mental Health Services Administration, HHS.

ACTION: Notice of funding availability for cooperative agreements for State Emergency Response Capacity.

SUMMARY: The Substance Abuse and Mental Health Services Administration (SAMHSA) Center for Mental Health Services (CMHS), Center for Substance Abuse Treatment (CSAT), and Center for Substance Abuse Prevention (CSAP) announce the availability of FY 2003 funds for grants for the following activity. This notice is not a complete description of the activity; potential applicants must obtain a copy of the Guidance for Applicants (GFA), including Part I, Cooperative Agreements for State Emergency Response Capacity (SM 03-001), and Part II, General Policies and Procedures Applicable to all SAMHSA Applications for Discretionary Grants and Cooperative Agreements, before preparing and submitting an application.

Activity | Application deadline | Est. funds FY 2003 (millions) | Est. number of awards | Project Period
Cooperative Agreement for State Emergency Response Capacity | 10-22-2002 | $4.0 | 40 | 2 years.

The actual amount available for the award may vary, depending on the unanticipated program requirements and the number and quality of applications received. This program is being announced prior to the annual appropriation for FY 2003 for SAMHSA's programs. Applications are invited based on the assumption that sufficient funds will be appropriated for FY 2003 to permit funding of a reasonable number of applications being hereby solicited. This program is being announced in order to allow applicants sufficient time to plan and prepare applications. Solicitation of applications in advance of a final appropriation will also enable the award of appropriated grant funds in an expeditious manner and thus allow prompt implementation and evaluation of promising practices. All applicants are reminded, however, that we cannot guarantee sufficient funds will be appropriated to permit SAMHSA to fund any applications. This program is authorized under Section 520A, Section 509, and Section 516 of the Public Health Service Act. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: The Center for Mental Health Services (CMHS), Knowledge Exchange Network (KEN), Telephone: 1-800-789-2647.

The PHS 5161-1 application form and the full text of the grant announcement are also available electronically via SAMHSA's World Wide Web Home Page: http://www.samhsa.gov, (Click on “Grant Opportunities”).

When requesting an application kit, the applicant must specify the particular announcement number for which detailed information is desired. All information necessary to apply, including where to submit applications and application deadline instructions, are included in the application kit.

Purpose

The Substance Abuse and Mental Health Services Administration (SAMHSA), Center for Mental Health Services (CMHS), Center for Substance Abuse Treatment (CSAT), and Center for Substance Abuse Prevention (CSAP) are accepting applications for fiscal year (FY) 2003 cooperative agreements to develop and implement the State Emergency Response Capacity. The goal of the State Emergency Response Capacity Program is to enhance State-level capacity for a coordinated response to mental health and substance abuse service needs in the aftermath of large scale emergencies (both natural and human caused). Incident response plans and response infrastructure developed under the grant must include both mental health and substance abuse agencies and must focus on coordinated mental health and substance abuse emergency planning and capacity development activities.

Eligibility

All 50 States, Indian Tribes, and consortia of Indian tribes, the District of Columbia, Guam, the Commonwealth of Puerto Rico, the Northern Mariana Islands, the Virgin Islands, American Samoa, and the Trust Territory of the Pacific Islands may apply. State mental health and substance abuse authorities must apply in partnership. In States, territories, or tribal governments with administratively separate mental health and substance abuse authorities, a lead agency must be designated for grant purposes. SAMHSA has limited eligibility to States, and Indian tribes because these governmental units have a mandated oversight role in mental health, substance abuse, and emergency management activities.

Availability of Funds

Approximately $4 million is expected to be available for FY 2003. Approximately 40 awards will be made in total costs (direct and indirect) of up to $100,000 per year. The total funds available and actual funding levels will depend on the receipt of an appropriation. Annual continuation of the award depends on the availability of funds and progress achieved.

Period of Support

An award may be requested for a project period of up to 2 years.

Criteria for Review and Funding

General Review Criteria

Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criterion. Additional award criteria specific to the programmatic activity may be included in the application guidance materials.

Catalog of Federal Domestic Assistance Number

93.243.

Program Contact

For questions concerning program issues, contact: Seth Hassett, M.S.W., Public Health Advisor, 5600 Fishers Lane, Room 17C-20, Rockville, MD 20857. (301) 443-4735. E-Mail: shassett@samhsa.gov.

For questions regarding grants management issues, contact: Steve Hudak, Grants Management Officer, Substance Abuse and Mental Health Services Administration, 5600 Fishers Lane, Room 13-603, Rockville, MD 20857. (301) 443-9666. E-Mail: shudak@samhsa.gov.

Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2003 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's Web site under “Assistance with Grant Applications”. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: August 15, 2002.
Joseph H. Autry III,
Deputy Administrator, SAMHSA.

[FR Doc. 02-21358 Filed 8-21-02; 8:45 am]

BILLING CODE 4162-20-P